FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on January 6, 2004 (69 FR 659), of the regular meeting of the Farm Credit Administration Board (Board) scheduled for January 8, 2004. This notice is to amend the agenda by adding an item to a closed session of that meeting.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board were open to the public (limited space available), and parts of this meeting were closed to the public. In order to increase the accessibility to Board meetings, persons requiring assistance should make arrangements in advance. The agenda for January 8, 2004, is amended by adding the following item to a closed session as follows:

Closed Session*

Reports

• Examination issue.

*Session closed—exempt pursuant to 5 U.S.C. 552b(c)(8).
Dated: January 13, 2004.
Jeanette C. Brinkley,
Secretary, Farm Credit Administration Board.

[FR Doc. 04-1068 Filed 1-13-04; 3:53 pm]

BILLING CODE 6705-01-P